DEPARTMENT OF AGRICULTURE

Animal and Plant Health Inspection Service

[Docket No. APHIS-2012-0051]

Notice of Request for Approval of a New Information Collection; National Animal Health Monitoring System; Layers 2013 Study

AGENCY: Animal and Plant Health Inspection Service, USDA.

ACTION: Approval of a new information collection activity; comment request.

SUMMARY: In accordance with the Paperwork Reduction Act of 1995, this notice announces the Animal and Plant Health Inspection Service's intention to initiate the Layers 2013 Study, an information collection to support the U.S. poultry industry.

DATES: We will consider all comments that we receive on or before September 17, 2012.

ADDRESSES: You may submit comments by either of the following methods:

• Federal eRulemaking Portal: Go to http://www.regulations.gov/#!documentDetail;D=APHIS-2012-0051-0001.

• Postal Mail/Commercial Delivery: Send your comment to Docket No. APHIS-2012-0051, Regulatory Analysis and Development, PPD, APHIS, Station 3A-03.8, 4700 River Road, Unit 118, Riverdale, MD 20737-1238.

Supporting documents and any comments we receive on this docket may be viewed at http://www.regulations.gov/#!docketDetail;D=APHIS-2012-0051 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Chris Quatrano, Industry Analyst, Centers for Epidemiology and Animal Health, VS, APHIS, 2150 Centre Avenue Building B MS 2E6, Fort Collins, CO 80526; (970) 494-7207. For copies of more detailed information on the information collection, contact Mrs. Celeste Sickles, APHIS' Information Collection Coordinator, at (301) 851-2908.

SUPPLEMENTARY INFORMATION: Title: National Animal Health Monitoring System; Layers 2013 Study.

OMB Number: 0579-XXXX.

Type of Request: Approval of a new information collection activity.

Abstract: Under the Animal Health Protection Act (7 U.S.C. 8301 et seq.), the Animal and Plant Health Inspection Service (APHIS) of the United States Department of Agriculture is authorized to protect the health of U.S. livestock and poultry populations by preventing the introduction and interstate spread of serious diseases and pests of livestock and for eradicating such diseases from the United States when feasible. In connection with this mission, APHIS would like to conduct the Layers 2013 Study, which will be used to collect information to:

• Estimate flock-level prevalence of Salmonella enteritidis.

• Identify potential risk factors with Salmonella enteritidis presence to support and enhance quality assurance programs.

• Describe biosecurity measures and management practices being used by the industry that are potentially related to the presence of Salmonella enteritidis.

Through the Layers 2013 Study, APHIS will collect data, voluntarily, from individual producers involved in the U.S. table egg layer industry. The study questionnaire will be administered by Veterinary Services personnel. No national, cross-company study on the table egg layer industry has been conducted since the National Animal Health Monitoring Systems' (NAHMS) Layers `99 Study.

On March 20, 2012, NAHMS was recognized by Office of Management and Budget (OMB) as a statistical unit under Title V of the E-Governement Act of 2002, Public Law 107-347, also known as the Confidential Information Protection and Statistical Efficiency Act of 2002 (CIPSEA). All information acquired under the Layers 2013 Study will be used for statistical purposes only and will be treated as confidential in accordance with CIPSEA guidelines. Only NAHMS staff and designated agents will be permitted access to individual-level data.

We are asking OMB to approve our use of this information collection activity for 2 years.

The purpose of this notice is to solicit comments from the public (as well as agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.625 hours per response.

Respondents: Egg producers.

Estimated annual number of respondents: 1,344.

Estimated annual number of responses per respondent: 1.

Estimated annual number of response hours: 1,344.

Estimated total annual burden on respondents: 840. (Due to averaging, the total annual burden hours may not equal the product of the annual number of responses multiplied by the reporting burden per response.)

All responses to this notice will be summarized and included in the request for OMB approval. All comments will also become a matter of public record.

Done in Washington, DC, this 12th day of July 2012.
Kevin Shea,
Acting Administrator, Animal and Plant Health Inspection Service.

[FR Doc. 2012-17535 Filed 7-17-12; 8:45 am]

BILLING CODE 3410-34-P